DEPARTMENT OF THE INTERIOR

Bureau of Land Management

[LLES935000.L54100000.FR0000]

Notice of Realty Action: Application for Segregation and Conveyance of Federally Owned Mineral Interests in Mathews County, VA

AGENCY: Bureau of Land Management, Interior.

ACTION: Notice.

SUMMARY: The Bureau of Land Management (BLM) is processing an application under the Federal Land Policy Management Act of October 21, 1976 (FLPMA), to convey the undivided mineral interest owned by the United States in 96.75 acres located in Mathews County, Virginia, to the surface owner, Joseph M. Perdue. Upon publication of this notice, the BLM is temporarily segregating the federally owned mineral interests in the land covered by the application from all forms of appropriation under the public land laws, including the mining laws, for up to 2 years while the BLM processes the application. If the application meets the requirements in the statute and the regulation, the BLM may convey the United States' entire interest in the minerals within the tract.

DATES: Interested persons may submit written comments to the BLM at the address listed below. Comments must be received no later than October 19, 2015.

ADDRESSES: Bureau of Land Management, Eastern States State Office, 20 M Street SE., Suite 950, Washington, DC 20003. Detailed information concerning this action is available for review at this address.

FOR FURTHER INFORMATION CONTACT: Charles Johnson, Land Law Examiner, by telephone at 202-912-7737, or by email at c35johns@blm.gov. Persons who use a telecommunications device for the deaf (TDD) may call the Federal Information Relay Service (FIRS) at 1-800-877-8339 to contact the above individuals during normal business hours. The FIRS is available 24 hours a day, 7 days a week, to leave a message or question for the above individuals. You will receive a reply during normal business hours.

SUPPLEMENTARY INFORMATION: The federally owned mineral interest segregated by this Notice is located in Mathews County, Virginia, in a parcel described in a deed recorded on May 6, 1990, in Deed Book 154 Page 731 in the Matthews County Circuit Court as follows:

All that certain piece, parcel or tract of land, together with the improvements thereon and the appurtenances thereunto belonging, situate, lying, and being in the Westville Magisterial District of Mathews County Virginia, containing 96.7457 acres according to the plat of survey hereinafter mentioned, be the same more or less, and bounded as follows: On the North by the land of the Commonwealth of Virginia and by Virginia State Highway Route 14; on the East by the land of the Chesapeake Corporation of Virginia; on the South by the land of Ishmael Bates Sadler, the land of Robert Dewey Sadler, the land of Alvin H. and David H. Ingram, the lands of James M. Wilson and Ellen W. Wilson and the land of James J. Walsh, Jr. and Patricia A. Walsh; and on the West by the land of Marion Cook and the land of the Commonwealth of Virginia, and being more fully and accurately described on the plat of survey made by Wayne E. Lewis (of Keller, Lewis and Assoc., P.C.), Land Surveyor, dated December 13, 1989 . . . The area described contains 96.7457 acres.

Under certain conditions, Section 209(b) of FLPMA authorizes the sale and conveyance of the federally owned mineral interests in land to the current surface owner. The applicant has deposited, as required under Section 209(b)(3)(i) of FLPMA, a sum of money determined sufficient to cover administrative costs, including but not limited to, the cost for the Mineral Potential Report. The objective is to allow consolidation of the surface and mineral interests when either one of the following conditions exist: (1) There are no known mineral values in the land; or (2) Where continued Federal ownership of the mineral interests interferes with or precludes appropriate non-mineral development and such development is a more beneficial use of the land than mineral development.

James M. Perdue, the surface owner, filed an application for the conveyance of federally owned mineral interests in the above-described tract of land. Subject to valid existing rights, on September 2, 2015 the federally owned mineral interests in the land described above are hereby segregated from all forms of appropriation under the public land laws, including the mining laws, while the application is being processed to determine if either one of the two specified conditions exists and, if so, to otherwise comply with the procedural requirements of 43 CFR part 2720. The segregation shall terminate upon: (1) Issuance of a patent or other document of conveyance as to such mineral interests; (2) Final rejection of the application; or (3) On September 5, 2017, whichever occurs first. Please submit all comments in writing to the individuals at the address listed above.

Before including your address, phone number, email address, or other personal identifying information in your comment, you should be aware that your entire comment, including your personal identifying information, may be made available to the public at any time. While you can ask in your comment to withhold your personal identifying information from public review, we cannot guarantee that we will be able to do so.

Authority: 43 CFR 2720.1-1(b)

Marci L. Todd,
Acting State Director.

[FR Doc. 2015-21788 Filed 9-1-15; 8:45 am]

BILLING CODE 4310-GJ-P